POSTAL SERVICE

39 CFR Part 111

Optional 5-Digit/3-Digit/ADC Sortation

AGENCY: Postal Service.

ACTION: Final rule.

SUMMARY: The Postal Service is amending Mailing Standards of the United States Postal Service, Domestic Mail Manual (DMM®) in sections 235 and 240 to change the standards for First Class Mail and USPS Marketing Mail flats from a “required” 5-digit/scheme, 3-digit, and ADC preparation to an “optional” preparation.

DATES: Effective Date: July 13, 2025.

FOR FURTHER INFORMATION CONTACT: Dale Kennedy at (202) 268-6592 or Doriane Harley at (202) 268-2537.

SUPPLEMENTARY INFORMATION: The Postal Service is revising the standards in DMM sections 235 and 240 to make the 5-digit/scheme, 3-digit, and ADC preparation “optional” when preparing bundles and trays of First Class Mail and USPS Marketing Mail flats. These changes will be effective on July 13, 2025.

Comments on Proposed changes and USPS responses:

The Postal Service received four formal comments on the February 5, 2025 proposed rule.

• Comment: One commenter requested pricing clarification for loose flats in flat trays.

Response: The Postal Service has added those changes into the final revisions below.

• Comment: One commenter suggested that revisions be made to co-traying standards for USPS Marketing Mail flats.

Response: The Postal Service has added those changes in the final revisions below.

• Comment: Three commenters expressed support for changes and believe that the result will produce more full trays, fewer bundles, and cost reductions for the USPS and mailers.

The Postal Service adopts the following changes to Mailing Standards of the United States Postal Service, Domestic Mail Manual (DMM), incorporated by reference in the Code of Federal Regulations. See 39 CFR 111.1.

List of Subjects in 39 CFR Part 111

Administrative practice and procedure, Postal Service.

Accordingly, 39 CFR part 111 is amended as follows:

PART 111—GENERAL INFORMATION ON POSTAL SERVICE

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing

Standards of the United States Postal Service, Domestic Mail Manual (DMM)

* * * * *

200 Commercial Letters, Cards, Flats, and Parcels

* * * * *

230 Commercial Mail First-Class Mail

* * * * *

235 Mail Preparation

* * * * *

7.0 Preparation of Nonautomation Flats

* * * * *

7.4 Bundling and Labeling

* * * * *

[Revise the text of items (a) through (c) to read as follows:]

a. 5-digit (optional); 10-piece minimum; red Label 5 or optional endorsement line (OEL).

b. 3-digit (optional); 10-piece minimum; green Label 3 or OEL.

c. ADC (optional); 10-piece minimum; pink Label A or OEL.

* * * * *

7.5 Traying and Labeling

* * * * *

[Revise the first paragraph of item (a) to read as follows:]

a. 5-digit (optional); full trays (no overflow); labeling: * * *

[Revise the first paragraph of item (b) to read as follows:]

b. 3-digit (optional); full trays (no overflow), except for one less-than-full tray for each origin 3-digit(s); labeling: * * *

[Revise the first paragraph of item (c) to read as follows:]

c. ADC (optional); full trays (no overflow); labeling: * * *

* * * * *

8.0 Preparation of Automation Flats

* * * * *

8.5 First-Class Mail Required Bundle-Based Preparation

8.5.1 Bundling and Labeling

Preparation sequence, bundle size (except as allowed under 203.4.12), and labeling:

* * * * *

[Revise the text of items (b) through (d) to read as follows:]

b. 5-digit (optional); 10-piece minimum; red Label 5 or optional endorsement line (OEL).

c. c. 3-digit (optional); 10-piece minimum; green Label 3 or OEL.

d. d. ADC (optional); 10-piece minimum; pink Label A or OEL.

* * * * *

8.5.2 Traying and Labeling

Preparation sequence, tray size, and labeling:

* * * * *

[Revise the first paragraph of item (a) to read as follows:]

a. 5-digit (optional); full trays (no overflow); labeling: * * *

[Revise the first paragraph of item (b) to read as follows:]

b. 3-digit (optional); full trays (no overflow); labeling: * * *

* * * * *

[Revise the first paragraph of item (d) to read as follows:]

d. ADC (optional); full trays (no overflow); labeling: * * *

* * * * *

8.6 First-Class Mail Optional Tray-Based Preparation

Tray size, preparation sequence, and Line 1 labeling:

* * * * *

[Revise the text of item (a) to read as follows:]

a. 5-digit: optional (90-piece minimum); one less-than-full or overflow tray allowed; for Line 1, use city, state, and 5-digit ZIP Code destination of pieces (for military mail see 4.0). (Preparation to qualify for 5-digit price is optional and need not be done for all 5-digit destinations.)

[Revise the text of item (b) to read as follows:]

b. 3-digit: optional (90-piece minimum); one less-than-full or overflow tray allowed; for Line 1, use L002, Column A for 3-digit destinations.

* * * * *

[Revise the first sentence of item (d) to read as follows:]

d. ADC: optional (90-piece minimum); one less-than-full or overflow tray allowed; group pieces by 3-digit ZIP Code prefix; for Line 1, use L004. * * *

* * * * *

240 Commercial Mail USPS Marketing Mail

* * * * *

243 Prices and Eligibility

* * * * *

5.0 Additional Eligibility Standards for Nonautomation USPS Marketing Mail Letters, Flats, and Presorted USPS Marketing Mail Parcels

* * * * *

5.6 Nonautomation Price Application—Flats

5.6.1 5-Digit Prices for Flats

The 5-digit price applies to flat-size pieces:

* * * * *

[Add an item (d) to read as follows:]

d. Placed unbundled in a full 5-digit flat tray under 203.4.4.

* * * * *

5.6.3 3-Digit Prices for Flats

The 3-digit price applies to flat-size pieces:

* * * * *

[Revise item (c) to read as follows:]

c. Placed unbundled in a full 3-digit flat tray under 203.4.4.

* * * * *

5.6.5 ADC Prices for Flats

ADC prices apply to flat-size pieces:

* * * * *

[Add an item (d) to read as follows:]

d. Placed unbundled in a full ADC flat tray under 203.4.4.

* * * * *

7.0 Eligibility Standards for Automation USPS Marketing Mail

* * * * *

7.5 Price Application for Automation Flats

Automation prices apply to each piece properly sorted into qualifying groups:

[Revise the text of items (a) through (c) to read as follows:]

a. The 5-digit price applies to flat-size pieces in a 5-digit/scheme bundle of 10 or more pieces, as applicable. The 5-digit price also applies to unbundled flats placed in 5-digit flat trays under 203.4.4.

b. The 3-digit price applies to flat-size pieces in a 3-digit/scheme bundle of 10 or more pieces. The 3-digit price also applies to unbundled flats placed in 3-digit flat trays under 203.4.4.

c. The ADC price applies to flat-size pieces in an ADC bundle of 10 or more pieces. The ADC price also applies to unbundled flats placed in ADC flat trays under 203.4.4.

* * * * *

245 Mail Preparation

* * * * *

8.0 Preparing Nonautomation Flats

* * * * *

8.3 Bundling and Labeling

* * * * *

[Revise the introductory paragraph of item (b) to read as follows:]

b. 5-digit (optional), see definition in 1.4j: * * *

* * * * *

[Revise the text of items (d) and (e) to read as follows:]

d. 3-digit (optional), see definition in 1.4o; 10-piece minimum; green Label 3 or OEL.

e. ADC (optional); 10-piece minimum; pink Label A or OEL.

* * * * *

8.6 Traying, Sacking, and Labeling

* * * * *

[Revise the first paragraph of item (a) to read as follows:]

a. 5-digit/scheme; (optional), only for pieces meeting the automation flats criteria in 201.6.0, see definition in 1.4h; full flat tray; 125-piece, or 15-pound minimum; labeling: * * *

[Revise the first paragraph of item (b) to read as follows:]

b. 3-digit (optional); full flat tray; 125-piece, or 15-pound minimum; labeling: * * *

* * * * *

[Revise the first paragraph of item (d) to read as follows:]

d. ADC (optional); full flat tray; 125-piece, or 15-pound minimum; labeling: * * *

* * * * *

10.0 Preparing Automation Flats

* * * * *

10.4 USPS Marketing Mail Bundle and Flat-Tray Preparation

10.4.1 Bundling and Labeling

* * * * *

[Revise the first paragraph of (a) to read as follows:]

a. 5-digit scheme (optional); see definition in 1.4g: * * *

[Revise the first paragraph of (b) to read as follows:]

b. 5-digit presort (optional); see definition in 1.4g: * * *

[Revise text of items (c) through (e) to read as follows:]

c. 3-digit scheme (optional); see definition in 1.4p; 10-piece minimum; green Label 3 SCH or OEL.

d. 3-digit presort (optional); see definition in 1.4n; 10-piece minimum; green Label 3 or OEL.

e. ADC (optional); 10-piece minimum; pink Label A or OEL.

* * * * *

10.4.3 Traying, Sacking, and Labeling

* * * * *

[Revise the first paragraph of item (a) to read as follows:]

a. 5-digit/scheme; (optional), see definition in 1.4h; full flat tray, 125-piece, or 15-pound minimum, labeling: * * *

[Revise the first paragraph of item (b) to read as follows:]

b. 3-digit (optional); full flat tray, 125-piece or 15-pound minimum; labeling: * * *

* * * * *

[Revise the first paragraph of item (d) to read as follows:]

d. ADC (optional); full flat tray, 125-piece, or 15-pound minimum; labeling: * * *

* * * * *

705 Advanced Preparation and Special Postage Payment Systems

* * * * *

9.0 Combining Bundles of Automation and Nonautomation Flats in Flat Trays and Sacks

* * * * *

9.3 USPS Marketing Mail

* * * * *

9.3.5 Flat Tray/Sack Preparation and Labeling

* * * * *

[Revise the first paragraph of item (a) to read as follows:]

a. 5-digit/scheme; optional; scheme sort required only for pieces meeting the automation-compatibility criteria in 201.6.0; full tray/125-piece/15-pound minimum; labeling: * * *

[Revise the first paragraph of item (b) to read as follows:]

b. 3-digit, optional, full tray/125-piece/15-pound minimum; labeling: * * *

[Revise the first paragraph of item (d) to read as follows:]

d. ADC, optional, full tray/125-piece/15-pound minimum; use L004 to determine ZIP Codes served by each ADC; labeling: * * *

* * * * *

Colleen Hibbert-Kapler,
Attorney, Ethics and Legal Compliance.

[FR Doc. 2025-08691 Filed 5-15-25; 8:45 am]

BILLING CODE 7710-12-P